DEPARTMENT OF COMMERCE

National Oceanic and Atmospheric Administration

[RTID 0648-XB516]

Atlantic Highly Migratory Species; Atlantic Shark Management Measures; 2022 Research Fishery

AGENCY: National Marine Fisheries Service (NMFS), National Oceanic and Atmospheric Administration (NOAA), Commerce.

ACTION: Notice of intent; request for applications.

SUMMARY: NMFS announces its request for applications for the 2022 shark research fishery from commercial shark fishermen with directed or incidental shark limited access permits. The shark research fishery allows for the collection of fishery-dependent and biological data for future stock assessments and to meet the research objectives of the Agency. The only commercial vessels authorized to land sandbar sharks are those participating in the shark research fishery. Shark research fishery permittees may also land other large coastal sharks (LCS), small coastal sharks (SCS), smoothhound, and pelagic sharks. Commercial shark fishermen who are interested in participating in the shark research fishery need to submit a completed Shark Research Fishery Permit Application to be considered.

DATES: Shark Research Fishery Applications must be received no later than December 20, 2021.

ADDRESSES: Please submit completed applications via email to NMFS.Research.Fishery@noaa.gov.

For copies of the Shark Research Fishery Permit Application, please email a request to NMFS.Research.Fishery@noaa.gov. Copies of the Shark Research Fishery Application are also available at the HMS website at https://www.fisheries.noaa.gov/atlantic-highly-migratory-species/atlantic-highly-migratory-species-exempted-fishing-permits. Additionally, please be advised that your application may be released under the Freedom of Information Act.

FOR FURTHER INFORMATION CONTACT: Karyl Brewster-Geisz, at (301) 427-8503 (phone) or Delisse Ortiz at (202) 930-1304 or email NMFS.research.fishery@noaa.gov.

SUPPLEMENTARY INFORMATION: The Atlantic shark fisheries are managed under the authority of the Magnuson-Stevens Fishery Conservation and Management Act (Magnuson-Stevens Act). The 2006 Consolidated Atlantic HMS Fishery Management Plan (FMP), as amended, is implemented by regulations at 50 CFR part 635. Specifics regarding the commercial shark quotas and the shark research fishery can be found at §§ 635.27(b) and 635.32(f).

The shark research fishery was established, in part, to maintain time series data for stock assessments and to meet NMFS' research objectives. Since the shark research fishery was established in 2008, it has allowed for: The collection of fishery-dependent data for current and future stock assessments; the operation of cooperative research to meet NMFS' ongoing research objectives; the collection of updated life-history information used in the sandbar shark (and other species) stock assessment; the collection of data on habitat preferences that might help reduce fishery interactions through bycatch mitigation; evaluation of the utility of the mid-Atlantic closed area on the recovery of dusky sharks and collection of hook-timer and pop-up satellite archival tag information to determine at-vessel and post-release mortality of dusky sharks; and collection of sharks to determine the weight conversion factor from dressed weight to whole weight.

The shark research fishery allows selected commercial fishermen the opportunity to earn revenue from selling additional sharks, including sandbar sharks. Only the commercial shark fishermen selected to participate in the shark research fishery are authorized to land sandbar sharks subject to the sandbar quota available each year. The base quota for sandbar sharks is 90.7 metric tons (mt) dressed weight (dw) per year, although this number may be reduced in the event of overharvests. The selected shark research fishery permittees will also be allowed to land other LCS, SCS, smoothhound, and pelagic sharks consistent with any restrictions established on their shark research fishery permit. Generally, the shark research fishery permits are valid only for the calendar year for which they are issued.

One hundred percent observer coverage is required on shark research fishery trips. The specific 2022 trip limits and number of trips per month will depend on the availability of funding, number of selected vessels, the availability of observers, the available quota, and the objectives of the research fishery, and will be included in the permit terms at time of issuance. The number of participants in the research fishery changes each year. In 2021, four fishermen were chosen to participate. From 2008 through 2021, there has been an average of six participants each year with the range from 4 to 11. The number of trips allowed per month can change, but in the last few years participating vessels on average have been able to take one trip per month. The number of trips taken per month are limited by the scientific and research needs of the Agency and the number of NMFS-approved observers available. Participants are also limited on the amount of gear they can deploy on a given set (e.g., number of hooks and sets, soak times, length of longline). These limits may change both between years and during the year depending on research goals and bycatch limits.

In 2021, NMFS split 90 percent of the sandbar and LCS research fishery quotas equally among selected participants, with 20.4 mt dw (44,973 lb dw) of sandbar shark research fishery quota and 11.3 mt dw (24,911 lb dw) of other LCS research fishery quota available to each vessel. The remaining quota was held in reserve to ensure the overall sandbar and LCS research fishery quotas were not exceeded. It is likely NMFS will use this process again for the quota in 2022.

In 2021, NMFS continued to implement a regional dusky bycatch limit, which was first established in 2013, in the shark research fishery, applicable to four regions across the Gulf of Mexico and Atlantic. Under this limit, when four or more dusky sharks have been brought to the vessel dead in a region, shark research fishery permit holders in that region were prohibited from soaking their gear for longer than 3 hours. If, after the change in soak time, three additional dusky shark interactions (alive or dead) were observed, shark research fishery permit holders were prohibited from making a trip in that region for the remainder of the year, unless otherwise permitted by NMFS. Slightly different measures were established for shark research fishery participants in the mid-Atlantic shark closed area in order to allow NMFS observers to place satellite archival tags on dusky sharks and collect other scientific information on dusky sharks while also minimizing any dusky shark mortality.

Previously, shark research fishery permit holders were required to land any dead sharks, except for prohibited species. However, in 2021, shark research fishery permit holders were provided more flexibility and allowed to retain or discard any shark, regardless of condition. All prohibited species were required to be released, unless the observer requested that the shark be retained for research purposes. If the regional non-blacknose SCS, blacknose, and/or pelagic shark commercial management group quotas were closed, then any shark research fishery permit holder fishing in the region was required to discard all of the species from the closed management groups, regardless of condition. All other sharks, except prohibited species, caught and brought to the vessel could be released alive or landed. The vessels participating in the shark research fishery averaged 12 trips in 2021, but the timing, and number of the trips varied based on seasonal availability of certain species and quota available.

To participate in the shark research fishery, commercial shark fishermen need to submit a completed Shark Research Fishery Application by the deadline noted above (see DATES) showing that the vessel and owner(s) meet the specific criteria outlined below.

Research Objectives

Each year, the research objectives are developed by a shark board, which is comprised of representatives within NMFS, including representatives from the Southeast Fisheries Science Center (SEFSC) Panama City Laboratory, the Southeast Regional Office Protected Resources Division, and the HMS Management Division. The research objectives for 2022 are based on various documents, including the 2020 Biological Opinion of the Atlantic Shark Fisheries Except Pelagic Longline, as well as recent stock assessments for the U.S. South Atlantic blacknose, U.S. Gulf of Mexico blacknose, U.S. Gulf of Mexico blacktip, sandbar, and dusky sharks (all these stock assessments can be found at http://sedarweb.org/). The 2022 research objectives are:

• Collect reproductive, length, sex, and age data from sandbar and other sharks throughout the calendar year for species-specific stock assessments;

• Monitor the size distribution of sandbar sharks and other species captured in the fishery;

• Continue on-going tagging shark programs for identification of migration corridors and stock structure using dart and/or spaghetti tags;

• Maintain time-series of abundance from previously derived indices for the shark bottom longline observer program;

• Acquire fin-clip samples of all shark and other species for genetic analysis;

• Attach satellite archival tags to endangered smalltooth sawfish to provide information on critical habitat, preferred depth and post-release mortality, consistent with the requirements listed in the take permit issued under section 10 of the Endangered Species Act to the SEFSC Observer Program;

• Attach satellite archival tags to prohibited dusky and other sharks, as needed, to provide information on daily and seasonal movement patterns, and preferred depth;

• Evaluate hooking mortality and post-release survivorship of dusky, hammerhead, blacktip, and other sharks using hook-timers and temperature-depth recorders;

• Evaluate the effects of controlled gear experiments to determine the effects of potential hook changes to prohibited species interactions and fishery yields;

• Examine the size distribution of sandbar and other sharks captured throughout the fishery including in the Mid-Atlantic shark time/area closure off the coast of North Carolina from January 1 through July 31;

• Develop allometric and weight relationships of selected species of sharks (e.g., hammerhead, sandbar, blacktip shark); and

• Collect samples such as liver and muscle plugs for stable isotope analysis as a part of a trophic level-based ecosystem study.

Selection Criteria

Shark Research Fishery Permit Applications will only be accepted from commercial shark fishermen who hold a current directed or incidental shark limited access permit. While incidental permit holders are welcome to submit an application, to ensure that an appropriate number of sharks are landed to meet the research objectives for this year, NMFS will give priority to directed permit holders as recommended by the shark board. As such, qualified incidental permit holders will be selected only if there are not enough qualified directed permit holders to meet research objectives.

The Shark Research Fishery Permit Application includes, but is not limited to, a request for the following information: Type of commercial shark permit possessed; past participation and availability in the commercial shark fishery (not including sharks caught for display); past involvement and compliance with HMS observer programs per 50 CFR 635.7; past compliance with HMS regulations at 50 CFR part 635; past and present availability to participate in the shark research fishery year-round; ability to fish in the regions and seasons requested; ability to attend necessary meetings regarding the objectives and research protocols of the shark research fishery; and ability to carry out the research objectives of the Agency. Preference will be given to those applicants who are willing and available to fish year-round and who affirmatively state that they intend to do so, to ensure the timely and accurate data collection NMFS needs to meet this year's research objectives. An applicant who has been charged criminally or civilly (e.g., issued a Notice of Violation and Assessment (NOVA) or Notice of Permit Sanction) for any HMS-related violation will not be considered for participation in the shark research fishery. In addition, applicants who were selected to carry an observer in the previous two years for any HMS fishery, but failed to contact NMFS to arrange the placement of an observer as required per § 635.7, will not be considered for participation in the 2022 shark research fishery. Applicants who were selected to carry an observer in the previous two years for any HMS fishery and failed to comply with all the observer regulations per § 635.7 will also not be considered. Exceptions will be made for vessels that were selected for HMS observer coverage but did not fish in the quarter when selected and thus did not require an observer. Applicants who do not possess a valid USCG safety inspection decal when the application is submitted will not be considered. Applicants who have been non-compliant with any of the HMS observer program regulations in the previous two years, as described above, may be eligible for future participation in shark research fishery activities by demonstrating two subsequent years of compliance with observer regulations at § 635.7.

Selection Process

The HMS Management Division will review all submitted applications and develop a list of qualified applicants from those applications that are deemed complete. A qualified applicant is an applicant that has submitted a complete application by the deadline (see DATES) and has met the selection criteria listed above. Qualified applicants are eligible to be selected to participate in the 2022 shark research fishery. The HMS Management Division will provide the list of qualified applicants without identifying information to the SEFSC. The SEFSC will then evaluate the list of qualified applicants and, based on the temporal and spatial needs of the research objectives, the availability of observers, the availability of qualified applicants, and the available quota for a given year, will randomly select qualified applicants to conduct the prescribed research. Where there are multiple qualified applicants that meet the criteria, permittees will be randomly selected through a lottery system. If a public meeting is deemed necessary, NMFS will announce details of a public selection meeting in a subsequent Federal Register notice.

Once the selection process is complete, NMFS will notify the selected applicants and issue the shark research fishery permits. The shark research fishery permits will be valid through December 31, 2022, unless otherwise specified. If needed, NMFS will communicate with the shark research fishery permit holders to arrange a captain's meeting to discuss the research objectives and protocols. NMFS usually holds mandatory captain's meetings before observers are placed on vessels and may hold one for the 2022 shark research fishery in early 2022. Once the fishery starts, the shark research fishery permit holders must contact NMFS or the NMFS-designee to arrange the placement of a NMFS-approved observer for each shark research trip. Selected applicants are required to allow observers the opportunity to perform their duties and assist observers as necessary.

A shark research fishery permit will only be valid for the vessel and owner(s) and terms and conditions listed on the permit, and, thus, cannot be transferred to another vessel or owner(s). Shark research fishery permit holders must carry a NMFS-approved observer on shark research fishery trips. Issuance of a shark research permit does not guarantee that the permit holder will be assigned a NMFS-approved observer on any particular trip. Rather, issuance indicates that a vessel may be issued a NMFS-approved observer for a particular trip, and on such trips, may be allowed to harvest Atlantic sharks, including sandbar sharks, in excess of the retention limits described in § 635.24(a). Applicable retention limits will be based on available quota, number of vessels participating in the 2022 shark research fishery, the research objectives set forth by the shark board, the extent of other restrictions placed on the vessel, and may vary by vessel and/or location. When not operating under the auspices of the shark research fishery, the vessel would still be able to land LCS, SCS, and pelagic sharks subject to existing retention limits on trips without a NMFS-approved observer.

NMFS annually invites commercial shark permit holders (directed and incidental) to submit an application to participate in the shark research fishery. Permit applications can be found on the HMS Management Division's website at https://www.fisheries.noaa.gov/atlantic-highly-migratory-species/atlantic-highly-migratory-species-permits-and-reporting-forms or by calling (301) 427-8503. Final decisions on the issuance of a shark research fishery permit will depend on the submission of all required information by the deadline (see DATES), and NMFS' review of applicant information as outlined above. The 2022 shark research fishery will start after the opening of the shark fishery and under available quotas as published in a separate Federal Register final rule.

Dated: November 16, 2021.
Ngagne Jafnar Gueye,
Acting Deputy Director, Office of Sustainable Fisheries, National Marine Fisheries Service.

[FR Doc. 2021-25314 Filed 11-18-21; 8:45 am]

BILLING CODE 3510-22-P